DEPARTMENT OF ENERGY

Federal Energy Regulatory Commission

[Docket Nos. RM20-10-000; AD19-19-000]

Electric Transmission Incentives Policy Under Section 219 of the Federal Power Act; Second Supplemental Notice of Workshop

As announced in the Notice of Workshop issued on April 15, 2021, and in the Supplemental Notice of Workshop issued on August 13, 2021, in the above-referenced proceedings, Federal Energy Regulatory Commission (Commission) staff will convene a workshop to discuss certain shared savings incentive approaches that may foster deployment of transmission technologies. The workshop will be held on Friday, September 10, 2021, from approximately 8:30 a.m. to 5:30 p.m. Eastern Time. The workshop will be held virtually via WebEx. Commissioners may attend and participate.

Transmission technologies, as deployed in certain circumstances, may enhance reliability, efficiency, and capacity, and improve the operation of new or existing transmission facilities. The workshop will discuss issues related to shared savings approaches ¹ for transmission technologies seeking incentives under Federal Power Act section 219.² The workshop will focus on how to calculate ex ante and ex post benefit analyses for transmission technologies seeking incentives. Specifically, the workshop will explore the maturity of the modeling approaches for various transmission technologies; the data needed to study the benefits/costs of such technologies; issues pertaining to access to or confidentiality of this data; the time horizons that should be considered for such studies; and other issues related to verifying forecasted benefits. The workshop may also discuss other issues, including whether and how to account for circumstances in which benefits do not materialize as anticipated.

¹ See, e.g., WATT Coalition and Advanced Energy Economy September 3, 2021 Comments.

² 16 U.S.C. 824s(b)(3).

Attached to this Supplemental Notice is an updated agenda for the workshop, which includes the final workshop program and speakers. The workshop will be open for the public to attend virtually. Information on the workshop will also be posted on the Calendar of Events on the Commission's website, http://www.ferc.gov, prior to the event. The workshop will be transcribed. Transcripts of the workshop will be available for a fee from Ace-Federal Reporters, Inc. (202-347-3700).

For more information about this workshop, please contact David Borden, 202-502-8734, david.borden@ferc.gov or Samin Peirovi, 202-502-8080, samin.peirovi@ferc.gov for technical questions; Meghan O'Brien, 202-502-6137, meghan.o'brien@ferc.gov for legal questions; and Sarah McKinley, 202-502-8368, sarah.mckinley@ferc.gov for logistical issues.

Dated: September 9, 2021.
Kimberly D. Bose,
Secretary.

[FR Doc. 2021-19900 Filed 9-14-21; 8:45 am]

BILLING CODE 6717-01-P